DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. chapter 35). The submission describes the nature of the information collection, the categories of respondents, the estimated burden (i.e., the time, effort and resources used by respondents to respond) and cost, and includes the actual data collection instruments FEMA will use.

Title: Request for Federal Assistance—How to Process Mission Assignments in Federal Disaster Operations.

OMB Number: 1660-0047.

FEMA Form(s): FEMA Form 90-129, Mission Assignment (MA), FEMA Form 90-136, Action Request (ARF).

Abstract: FEMA Form 990-129, Mission Assignment, is used by FEMA to record a request for Federal assistance by States and may become the official FEMA obligating document if a mission assignment to another Federal agency results from the request. States may use FEMA Form 90-136 to submit a written request for Federal assistance may be submitted on an Action Request Form (ARF). Mission Assignments are directives provided by FEMA to another agency to perform specific work in disaster operations, on a reimbursable basis and are defined in the 44 Code of Federal Regulations, 206.2(a)18 and to record State and Federal approving signatures.

Affected Public: State, local or tribal government.

Number of Respondents: 56.

Estimated Time per Respondent: FEMA Form 90-129, 1 minute or .016666 hour; FEMA Form 90-136, 20 minutes or .33333 hour; and 8 hours for training State Representatives.

Estimated Total Annual Burden Hours: 1,672 hours.

Frequency of Response: On Occasion.

Cost to Respondents: Annualized cost to all respondents is estimated at $35,045. This cost is based on the hourly wage rate of $20.96 per respondent.

Comments: Interested persons are invited to submit written comments on the proposed information collection to the Office of Information and Regulatory Affairs at OMB, Attention: Desk Officer for Emergency Preparedness and Response Directorate/Federal Emergency Management Agency, Department of Homeland Security, Office of Information and Regulatory Affairs, Office of Management and Budget, Docket Library, Room 10102, 725 17th Street NW., Washington, DC 20503. Comments must be submitted on or before July 15, 2004. In addition, interested persons may also send comments to FEMA (see contact information below).

FOR FURTHER INFORMATION CONTACT: Requests for additional information or copies of the information collection should be made to Muriel B. Anderson, Chief, Records Management, FEMA at 500 C Street, SW., Room 316, Washington, DC 20472, facsimile number (202) 646-3347, or e-mail address FEMA-Information-Collections@dhs.gov.

Dated: June 2, 2004.
Edward W. Kernan,
Branch Chief, Information Resources Management Branch, Information Technology Services Division.

[FR Doc. 04-13457 Filed 6-14-04; 8:45 am]

BILLING CODE 9110-10-P